DEPARTMENT OF COMMERCE

National Oceanic and Atmospheric Administration

National Estuarine Research Reserve System

AGENCY: Stewardship Division, Office for Coastal Management, National Ocean Service, National Oceanic and Atmospheric Administration, U.S. Department of Commerce.

ACTION: Notice of approval for the Jacques Cousteau, New Jersey National Estuarine Research Reserve Management Plan revision.

SUMMARY: Under applicable Federal regulations, notice is hereby given that the Stewardship Division, Office for Coastal Management, National Ocean Service, National Oceanic and Atmospheric Administration, U.S. Department of Commerce approves the revised Management Plan for the Jacques Cousteau, New Jersey National Estuarine Research Reserve Management Plan. In accordance with applicable Federal regulations, the Jacques Cousteau Reserve revised its Management Plan, which will replace the plan previously approved in 2009.

The revised Management Plan outlines the administrative structure; the research/monitoring, stewardship, education, and training programs of the Reserve; and the plans for future land acquisition and facility development to support Reserve operations.

The Jacques Cousteau Reserve takes an integrated approach to management, linking research, education, coastal training, and stewardship functions. The Reserve has outlined how it will manage administration and its core program providing detailed actions that will enable it to accomplish specific goals and objectives. Since the last management plan, the reserve has: Developed core programs; expanded monitoring programs within Jacques Cousteau and its watershed; enhanced exhibits and trails; provided technical assistance to coastal communities throughout the state of New Jersey, conducted training workshops; implemented K-12 education programs; and built new and innovative partnerships with local, state, regional, and U.S. organizations and universities.

On January 9, 2018, NOAA issued a notice of a thirty day public comment period for the Jacques Cousteau Reserve revised plan (83 FR 1027). Responses to the written and oral comments received, and an explanation of how comments were incorporated into the final revised plan, are available in Appendix D of the revised plan.

The revised Management Plan will serve as the guiding document for the Jacques Cousteau Reserve. View the Jacques Cousteau Reserve Management Plan at URL: https://jcnerr.org/JCNERR_REVISEDMGMTPLAN%202018.2022.pdf.

The impacts of the revised management plan have not changed and the initial Environmental Impact Statement (EIS) prepared at the time of designation is still valid. NOAA has made the determination that the revision of the management plan will not have a significant effect on the human environment and therefore qualifies for a categorical exclusion under NOAA Administrative Order 216-6. An environmental assessment will not be prepared.

FOR FURTHER INFORMATION CONTACT: Nina Garfield at (240) 533-0817 or Erica Seiden at (240) 533-0781 of NOAA's National Ocean Service, Stewardship Division, Office for Coastal Management, 1305 East-West Highway, N/ORM5, 10th floor, Silver Spring, MD 20910.

Dated: October 25, 2018.
Keelin Kuipers,
Deputy Director, Office for Coastal Management, National Ocean Service, National Oceanic and Atmospheric Administration.

[FR Doc. 2018-24196 Filed 11-2-18; 8:45 am]

BILLING CODE 3510-08-P